DEPARTMENT OF THE INTERIOR

Bureau of Land Management

[CA-310-0777-AC]

Notice of Resource Advisory Council Meeting

AGENCY: Bureau of Land Management, Northeast California Resource Advisory Council, Susanville, California.

ACTION: Notice of Meeting.

SUMMARY: Pursuant to the authorities in the Federal Advisory Committees Act (Pub. L. 92-463) and the Federal Land Policy and Management Act (Pub. L. 94-579), the U. S. Bureau of Land Management's Northeast California Resource Advisory Council will meet Friday and Saturday, Feb. 2 and 3, 2001, in the Bureau of Land Management's Eagle Lake Field Office, 2950 Riverside Drive, Susanville, CA.

SUPPLEMENTARY INFORMATION: The meeting begins Friday, Feb. 2, at 10 a.m. in the Conference Room of the Eagle Lake Field Office. Agenda items include an overview of livestock grazing consultation requirements, a status report on rangeland health assessments, an update on water quality management planning, a report on conservation planning for sage grouse, a report on a juniper shearing test, and discussions about off-highway vehicle management. Members of the public can also comment on these or other public lands management issues during the public comment period. Depending on the number of persons wishing to speak, a time limit may be established.

On Saturday, Feb. 3, the council will convene at 9 a.m. at the same location for a public forum on juniper management. Speakers will provide information on the current extent of juniper stands in northeastern California, and provide perspectives on management.

FOR FURTHER INFORMATION CONTACT: BLM Alturas Field Manager Tim Burke at (530) 257-4666.

Joseph J. Fontana,
Public Affairs Officer.

[FR Doc. 00-32192 Filed 12-15-00; 8:45 am]

BILLING CODE 4310-40-P